DEPARTMENT OF ENERGY

Federal Energy Regulatory Commission

[Project No. 2535-110]

South Carolina Electric & Gas Company; Notice of Availability of Environmental Assessment

August 8, 2008.

An environmental assessment (EA) is available for public review. The EA was prepared for an application filed by South Carolina Electric & Gas Company on October 26, 2007, requesting the Commission's authorization to permit the Columbia County Water and Sewerage System (Columbia) to increase the maximum allowable rate of water withdrawn from the Stevens Creek Project reservoir from 10 to 47.1 million gallons per day.

The EA evaluates the environmental impacts that would result from permitting Columbia to withdraw additional water from the Stevens Creek reservoir. The proposal would include no construction activity because the existing facilities are sufficient to allow the increase in water withdrawn. The EA finds that approval of the application would not constitute a major federal action significantly affecting the quality of the human environment.

A copy of the EA is attached to a Commission order titled “Order Modifying and Approving Non-Project Use of Project Lands and Waters,” issued August 8, 2008, and is available for review at the Commission in the Public Reference Room, or it may be viewed on the Commission's Web site at http://www.ferc.gov using the eLibrary link. Enter the docket number “P-2535” in the docket field to access the document. For assistance, call toll-free 1-(866)-208-3372 or (202) 502-8659 (for TTY).

Nathaniel J. Davis, Sr.,
Deputy Secretary.

[FR Doc. E8-18997 Filed 8-15-08; 8:45 am]

BILLING CODE 6717-01-P